SECURITIES AND EXCHANGE COMMISSION

Sunshine Act Meeting

Federal Register Citation of Previous Announcement: (68 FR 11418, March 10, 2003).

STATUS: Closed meeting.

PLACE: 450 Fifth Street, NW., Washington, DC.

DATE AND TIME OF PREVIOUSLY ANNOUNCED MEETING: Wednesday, March 12, 2003, at 2:30 p.m.

CHANGE IN THE MEETING: Additional item.

The following item has been added to the closed meeting scheduled for Wednesday, March 12, 2003: Litigation matter.

Commissioner Atkins, as duty officer, determined that Commission business required the above change and that no earlier notice thereof was possible.

At times, changes in Commission priorities require alterations in the scheduling of meeting items. For further information and to ascertain what, if any, matters have been added, deleted or postponed, please contact: the Office of the Secretary at (202) 942-7070.

Dated: March 10, 2003.
Jonathan G. Katz,
Secretary.

[FR Doc. 03-6326 Filed 3-12-03; 2:41 pm]

BILLING CODE 8010-01-P